TENNESSEE VALLEY AUTHORITY

Sunshine Act Meeting; Meeting No. 15-04

The TVA Board of Directors will hold a public meeting on November 20, 2015, at the Knicely Conference Center, 2355 Nashville Road, Bowling Green, Kentucky, on the campus of Western Kentucky University. The public may comment on any agenda item or subject at a public listening session which begins at 9 a.m. (CT). Following the end of the public listening session, the meeting will be called to order to consider the agenda items listed below. On-site registration will be available until 15 minutes before the public listening session begins at 9 a.m. (CT). Preregistered speakers will address the Board first. TVA management will answer questions from the news media following the Board meeting.

Status: Open.

Agenda

Chair's Welcome

Old Business

Approval of minutes of the August 21, 2015, Board Meeting

New Business

1. Report from President and CEO

2. Report of the Finance, Rates, and Portfolio Committee

A. Financial Performance Update

B. Section 13 Tax Equivalent Payments

C. Modifications to TVA's Imbalance Transmission Rate

3. Report of the People and Performance Committee

A. Fiscal Year 2015 Performance and Compensation

B. CEO Compensation for Fiscal Year 2016

4. Report of the Audit, Risk, and Regulation Committee

5. Report of the Nuclear Oversight Committee

A. Charter Renewal

6. Report of the External Relations Committee

A. Regional Resource Stewardship Committee Charter Renewal

7. Recognition of Departing Director

8. Information Item

A. Settlement Agreement Regarding Transmission Matters

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: November 13, 2015.
Sherry A. Quirk,
General Counsel.

[FR Doc. 2015-29673 Filed 11-17-15; 4:15 pm]

BILLING CODE 8120-08-P